DEPARTMENT OF ENERGY

Federal Energy Regulatory Commission

Combined Notice of Filings #1

Take notice that the Commission received the following electric rate filings:

Docket Numbers: ER19-1651-001.

Applicants: PJM Interconnection, L.L.C.

Description: Compliance filing: Compliance Filing re Rev to OATT for Regulation Market Settlement Agreement to be effective 7/1/2020.

Filed Date: 4/7/20.

Accession Number: 20200407-5109.

Comments Due: 5 p.m. ET 4/28/20.

Docket Numbers: ER20-741-000.

Applicants: Midcontinent Independent System Operator, Inc., Ameren Illinois Company.

Description: Report Filing: 2020-04-07_SA 3224 Ameren Illinois-Bishop Hill FSA Refund Report to be effective N/A.

Filed Date: 4/7/20.

Accession Number: 20200407-5139.

Comments Due: 5 p.m. ET 4/28/20.

Docket Numbers: ER20-1504-000.

Applicants: Tri-State Generation and Transmission Association, Inc.

Description: § 205(d) Rate Filing: Service Agreement No. 724 between Tri-State and Buffalo Bluff to be effective3/9/2020.

Filed Date: 4/7/20.

Accession Number: 20200407-5052.

Comments Due: 5 p.m. ET 4/28/20.

Docket Numbers: ER20-1505-000.

Applicants: Basin Electric Power Cooperative.

Description: Baseline eTariff Filing: Application of Basin Electric For Limited Market-Based Rate Authority to be effective 4/7/2020.

Filed Date: 4/7/20.

Accession Number: 20200407-5082.

Comments Due: 5 p.m. ET 4/28/20.

Docket Numbers: ER20-1506-000.

Applicants: Southern California Edison Company.

Description: § 205(d) Rate Filing: GIA and Service Agmt with Kaweah River Power Authority, Terminus Dam to be effective 3/16/2020.

Filed Date: 4/7/20.

Accession Number: 20200407-5101.

Comments Due: 5 p.m. ET 4/28/20.

Docket Numbers: ER20-1507-000.

Applicants: Tri-State Generation and Transmission Association, Inc.

Description: § 205(d) Rate Filing: Filing of Executed NOA between Tri-State and DMEA to be effective6/8/2020.

Filed Date: 4/7/20.

Accession Number: 20200407-5128.

Comments Due: 5 p.m. ET 4/28/20.

Docket Numbers: ER20-1508-000.

Applicants: Little Bear Solar 1, LLC.

Description: Baseline eTariff Filing: Certificate of Concurrence Shared Gen-Tie Facilities Common Ownership Agreement to be effective 4/8/2020.

Filed Date: 4/7/20.

Accession Number: 20200407-5180.

Comments Due: 5 p.m. ET 4/28/20.

Docket Numbers: ER20-1509-000.

Applicants: Little Bear Solar 3, LLC.

Description: Baseline eTariff Filing: Certificate of Concurrence Shared Gen-Tie Facilities Common Ownership Agreement to be effective 4/8/2020.

Filed Date: 4/7/20.

Accession Number: 20200407-5182.

Comments Due: 5 p.m. ET 4/28/20.

Docket Numbers: ER20-1510-000.

Applicants: Little Bear Solar 4, LLC.

Description: Baseline eTariff Filing: Certificate of Concurrence Shared Gen-Tie Facilities Common Ownership Agreement to be effective 4/8/2020.

Filed Date: 4/7/20.

Accession Number: 20200407-5186.

Comments Due: 5 p.m. ET 4/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2020.
Nathaniel J. Davis, Sr.,
Deputy Secretary.

[FR Doc. 2020-07692 Filed 4-10-20; 8:45 am]

BILLING CODE 6717-01-P